DEPARTMENT OF COMMERCE

National Oceanic and Atmospheric Administration

Notice of Deadline Extension for the NOAA Brennan Matching Fund Opportunity for Ocean and Coastal Mapping

AGENCY: Office of Coast Survey (OCS), National Ocean Service (NOS), National Oceanic and Atmospheric Administration (NOAA), Department of Commerce (DOC).

ACTION: Announcement to extend the deadline for the Brennan Matching Fund program opportunity, request for proposals, and request for interest to November 12, 2021; notice of availability of a mapping data acquisition cost estimation sheet.

SUMMARY: This notice extends the proposal submission deadline for the NOAA Rear Admiral Richard T. Brennan Ocean Mapping Matching Fund program by two weeks to November 12, 2021. Notice of the Brennan Matching Fund opportunity originally appeared in the Federal Register on July 27, 2021 (86 FR 40197, pages 40197-40200, 2021-15970, or at: https://www.federalregister.gov/documents/2021/07/27/2021-15970/notice-of-matching-fund-opportunity-for-ocean-and-coastal-mapping-and-request-for-partnership).

DATES: Proposals must be received via email by 5 p.m. ET on November 12, 2021, including any accompanying GIS files. If an entity is unable to apply for this particular opportunity but has an interest in participating in similar, future opportunities, NOAA requests a one-page statement of interest, instead of a proposal, also by November 12, 2021, to help gauge whether to offer the Brennan Matching Fund program in future years. All other dates in the original FRN remain unchanged at this time.

ADDRESSES: Proposals must be submitted in PDF format via email to iwgocm.staff@noaa.gov by the November 12, 2021, deadline. NOAA strongly encourages interested entities to submit their proposals in advance of the deadline. Interested applicants may also contact NOAA via email, iwgocm.staff@noaa.gov, for a rough order of magnitude cost estimation sheet to use in estimating acquisition costs for the matching program.

FOR FURTHER INFORMATION CONTACT: Requests for additional information should be directed to Ashley Chappell, NOAA Integrated Ocean and Coastal Mapping Coordinator, 240-429-0293, or at iwgocm.staff@noaa.gov.

SUPPLEMENTARY INFORMATION: The goal of the Brennan Matching Fund is to acquire more ocean and coastal mapping data for mutual benefit, including for safe navigation, integrated ocean and coastal mapping, coastal zone management, coastal and ocean science, climate preparedness, infrastructure investments, and other activities. The program relies on NOAA's mapping, charting, and geodesy expertise, appropriated funds, and its authority to receive and expend matching funds contributed by partners to conduct surveying and mapping activities. This program is subject to funding availability.

Authority: The Coast and Geodetic Survey Act of 1947, 33 U.S.C. 883e.

Kathryn Ries,
Performing the Duties of Director, Office of Coast Survey, National Ocean Service, National Oceanic and Atmospheric Administration.

[FR Doc. 2021-23426 Filed 10-26-21; 8:45 am]

BILLING CODE 3510-JE-P